DEPARTMENT OF THE TREASURY

Nondiscrimination on the Basis of Sex in Education Programs or Activities Receiving Federal Financial Assistance

AGENCY: Department of the Treasury (Treasury).

ACTION: Notice of financial assistance.

SUMMARY: In accordance with Treasury's regulations, for the enforcement of Title IX of the Education Amendments of 1972, as amended (Title IX), this notice provides an updated list of federal financial assistance administered by the U.S. Department of the Treasury.

FOR FURTHER INFORMATION CONTACT: Lydia Aponte Morales, Assistant Director for Civil Rights, (202) 923-0507.

SUPPLEMENTARY INFORMATION: Title IX prohibits recipients of federal financial assistance from discriminating on the basis of sex in educational programs or activities. Specifically, the statute states that “[n]o person in the United States shall, on the basis of sex, be excluded from participation in, be denied the benefits of, or be subjected to discrimination under any educational program or activity receiving Federal financial assistance,” with specific exceptions for various entities, programs, and activities. 20 U.S.C. 1681(a). Title IX and Treasury's Title IX regulations prohibit discrimination on the basis of sex in the operation of, and the provision or denial of benefits by, educational programs or activities conducted not only by educational institutions but by other entities as well, including, for example, law enforcement agencies, and for profit and nonprofit organizations.

List of Federal Financial Assistance

Note: All recipients of federal financial assistance from Treasury are subject to Title IX, but Title IX's anti-discrimination prohibitions are limited to the educational components of the recipient's program or activity, if any.

Failure to list a type of federal assistance below shall not mean, if Title IX is otherwise applicable, that a program or activity is not covered by Title IX.

1. Assistance provided by the Departmental Offices, Office of Domestic Finance, Office of Financial Institutions, Community Development Financial Institutions Fund—Technical Assistance Component, Riegle Community Development and Regulatory Improvement Act of 1994, sec. 114, 12 U.S.C. 4701 et seq.

2. Assistance provided by the Departmental Offices, Office of Domestic Finance, Office of Financial Institutions, Community Development Financial Institutions Fund—Financial Assistance Component, Riegle Community Development and Regulatory Improvement Act of 1994, sec. 114, 12 U.S.C. 4701 et seq.

3. Assistance provided by the Departmental Offices, Office of Domestic Finance, Office of Financial Institutions, Community Development Financial Institutions Fund—Native American Community Development Financial Institutions Assistance (NACA) Program, Financial Assistance (FA) Awards, 12 U.S.C. 4701 et seq.

4. Assistance provided by the Departmental Offices, Office of Domestic Finance, Office of Financial Institutions, Community Development Financial Institutions Fund—Native American Community Development Financial Institutions Assistance Program, Technical Assistance Grants, 2 U.S.C. 4701 et seq.

5. Assistance provided by the Departmental Offices, Office of Domestic Finance, Office of Financial Institutions, Community Development Financial Institutions Fund—Bank Enterprise Award Program, Bank Enterprise Award Act of 1991, as amended, 12 U.S.C. 1834a.

6. Assistance provided by the Departmental Offices, Office of Domestic Finance, Office of Financial Institutions, Community Development Financial Institutions Fund, Capital Magnet Fund, Housing and Economic Recovery Act of 2008, sec. 1339, 12 U.S.C. 4569.

7. Assistance provided by the Internal Revenue Service, Tax Counseling for the Elderly Grant Program, Revenue Act of 1978, sec. 163, Public Law 95-600, 92 Stat. 2763, 2810-11.

8. Assistance provided by the Internal Revenue Service, Volunteer Income Tax Assistance Program, Tax Reform Act of 1969, Public Law 91-172, 83 Stat. 487.

9. Assistance provided by the Internal Revenue Service, Volunteer Income Tax Assistance Grant Program, Consolidated Appropriations Act, 2008, Public Law 110-161, 121 Stat. 1844, 1975-76.

10. Assistance provided by the Internal Revenue Service, Low Income Taxpayer Clinic Grant Program, Internal Revenue Service Restructuring and Reform Act of 1998, sec. 3601, 26 U.S.C. 7526.

11. Assistance provided by the United States Mint U.S. Commemorative Coin Programs pursuant to specific acts of Congress that authorize United States commemorative coin and medal programs provide assistance. See, e.g., the National September 11 Memorial & Museum Commemorative Medal Act of 2010, Public Law 111-221, 31 U.S.C. 5112 (note); United States Marshals Service 225th Anniversary Commemorative Coin Act, Public Law 112-104 (2012), 31 U.S.C. 5112 (note); Mark Twain Commemorative Coin Act, Public Law 112-201 (2012), 31 U.S.C. 5112 (note); and March of Dimes Commemorative Coin Act of 2012, Public Law 112-209, 31 U.S.C. 5112 (note).

12. Assistance provided by the Departmental Offices, Treasury Executive Office for Asset Forfeiture, Equitable sharing program (transfer of forfeited property to state and local law enforcement agencies), 18 U.S.C. 981(e)(2); 21 U.S.C. 881(e)(1)(A); and 31 U.S.C. 9705(a)(1)(G) and (h).

13. Various Treasury Bureaus and Offices (including the Internal Revenue Service), Unreimbursed detail of Federal Employees through the Intergovernmental Personnel Act, 5 U.S.C. 3371 through 3376.

14. Assistance provided by the Resources and Ecosystems Sustainability, Tourist Opportunities, and Revived Economies of the Gulf Coast States Act of 2012, Public Law 112-141, 33 U.S.C. 1321.

15. Assistance provided by the Departmental Offices, Office of Financial Research, Dodd-Frank Wall Street Reform and Consumer Protection Act of 2010 as amended, 12 U.S.C. 5301, et seq.

16. Assistance provided by the Departmental Offices, Office of Economic Policy, under the Social Security Act, 42 U.S.C. 1397n-1397n-73, Social Impact Partnerships to Pay for Results Act (SIPPRA).

In addition to the above, further information on Treasury federal financial assistance can be found by consulting the Catalog of Federal Domestic Assistance (CFDA) at https://www.cfda.gov/. If using the internet site, please select “Search the Catalog,” select “Browse the Catalog-By Agency,” and then click on Treasury. Catalog information is also available by calling, toll free, 1-800-699-8331 or by writing to: Federal Domestic Assistance Catalog Staff (MVS), General Services Administration, Reporters Building, Room 101, 300 7th Street SW, Washington, DC 20407.

Authority: 20 U.S.C. 1681-1688; 65 FR 52881, codified at 31 CFR part 28.

Dated: July 9, 2021.
Lydia Aponte Morales,
Assistant Director for External Civil Rights, Office of Civil Rights and Diversity.

[FR Doc. 2021-14949 Filed 7-13-21; 8:45 am]

BILLING CODE 4810-AK-P